DEPARTMENT OF COMMERCE

National Oceanic and Atmospheric Administration

[I.D. 071200A]

ICCAT Advisory Committee; Public Meetings

AGENCY: National Marine Fisheries Service (NMFS), National Oceanic and Atmospheric Administration (NOAA), Commerce.

ACTION: Notice of public meetings.

SUMMARY: The Advisory Committee to the U.S. Section to the International Commission for the Conservation of Atlantic Tunas (ICCAT) in conjunction with the Highly Migratory Species (HMS) Management Division of NMFS announces the schedule of regional public meetings to be held this fall.

DATES: The meetings are scheduled in September and October 2000. See SUPPLEMENTARY INFORMATION for specific dates and times of the meetings.

ADDRESSES: The meetings will be held in Texas, Florida, New Jersey, and Massachusetts. See SUPPLEMENTARY INFORMATION for specific addresses of the meetings.

FOR FURTHER INFORMATION CONTACT: Patrick E. Moran (international issues) at 301-713-2276 or Rachel Husted (domestic issues) at 301-713-2347.

SUPPLEMENTARY INFORMATION: The meetings are scheduled as follows:

Thursday, September 7, 2000, 7 p.m. to 9:30 p.m.—Sandcastle Condominiums, 800 Sand Castle Drive, Port Aransas, Texas 78373;

Thursday, September 14, 2000, 7 p.m. to 9:30 p.m.—Sheraton Biscayne Bay Hotel, Brickell Point/Miami, 495 Brickell Avenue, Miami, Florida 33131;

Sunday, October 1, 2000, 7 p.m. to 9:30 p.m.—Four Points Hotels Sheraton, Route 132 and Bearse's Way, Hyannis, Massachusetts 02601;

Thursday, October 5, 2000, 7 p.m. to 9:30 p.m.—The Inn of Cape May, 7 Ocean Street, Cape May, New Jersey 08204.

The following topics may be presented to the public for discussion at the regional meetings:

International Issues

(1) Background on ICCAT

(2) Information on the Advisory Committee and Commissioners

(3) Status of Highly Migratory Species Managed by ICCAT

(4) Topics for the 2000 ICCAT Annual Meeting

Domestic Issues

(1) Implementation of ICCAT Recommendations

(2) Other HMS management actions

Representatives from the Advisory Committee to the U.S. Section to ICCAT and NMFS will be in attendance at the regional meetings. There will be an opportunity for public comment on each issue. The length of the meetings may be adjusted based on the progress of the discussions.

Additionally, the annual fall meeting of the Advisory Committee will be held on October 29-31, 2000, at the NOAA Silver Spring Metro Center complex, 1315 East-West Highway, Silver Spring, Maryland 20910. There will be opportunity for public comment on international issues on the first day (October 29) of this meeting. This session is scheduled from 1 to 6 p.m. Domestic issues will not be discussed at this meeting. Additional information on the annual fall Committee meeting will be provided at a later date.

The public is reminded that NMFS expects members of the public to conduct themselves appropriately for the duration of Advisory Committee meetings. At the beginning of the meetings, an appropriate representative will explain the ground rules (e.g., alcohol in the meeting room is prohibited, attendees will be called to give their comments in the order in which they registered to speak, each attendee will have an equal amount of time to speak, and attendees should not interrupt one another). The appropriate representative will attempt to structure the session so that all attending members of the public are able to comment, if they so choose, regardless of the degree of controversy of the subject(s). Attendees are expected to respect the ground rules, and if they do not, they will be asked to leave the meeting.

Special Accommodations

The meeting locations are physically accessible to people with disabilities. Requests for sign language interpretation or other auxiliary aids should be directed to Patrick E. Moran at (301) 713-2276 at least 5 days prior to the meeting date.

Dated: July 28, 2000.
Bruce C. Morehead,
Acting Director, Office of Sustainable Fisheries, National Marine Fisheries Service.

[FR Doc. 00-19651 Filed 8-2-00; 8:45 am]

BILLING CODE 3510-22-F